DEPARTMENT OF COMMERCE

National Oceanic and Atmospheric Administration

[I.D. 071806H]

Fisheries of the South Atlantic; South Atlantic Fishery Management Council (Council); Public Meeting

AGENCY: National Marine Fisheries Service (NMFS), National Oceanic and Atmospheric Administration (NOAA), Commerce.

ACTION: Notice of a public meeting.

SUMMARY: The South Atlantic Fishery Management Council (Council) will hold a meeting of its Oculina Evaluation Team, in Cape Canaveral, FL.

DATES: The meeting will take place August 21-23, 2006. See SUPPLEMENTARY INFORMATION for specific dates and times.

ADDRESSES: The meeting will be held at the Radisson at the Port, 8701 Astronaut Blvd., Cape Canaveral, FL; telephone: (800) 333-3333 or (321) 784-0000; fax: (321) 783-7718.

Council address: One Southpark Circle, Suite 306, Charleston, SC 29407-4699

FOR FURTHER INFORMATION CONTACT: Kim Iverson, Public Information Officer, South Atlantic Fishery Management Council; telephone: (843) 571-4366 or toll free (866) SAFMC-10; fax: (843) 769-4520; email: kim.iverson@safmc.net.

SUPPLEMENTARY INFORMATION: Members of the Oculina Evaluation Team will meet from 1 p.m. - 5 p.m. on August 21, 2006, from 8:30 a.m. - 5 p.m. on August 22, 2006, and from 8:30 a.m. - 1 p.m. on August 23, 2006.

In June 2004, the Council approved Amendment 13A to the Snapper Grouper Fishery Management plan that extended regulations, including the prohibition of harvest or possession of snapper grouper, in the Oculina Experimental Closed Area for an indefinite period. As part of the extension, the Council will review the size and configuration of the area within 3 years of the Final Rule (March 26, 2004) and perform a complete evaluation within a 10-year period.

The Council has established an evaluation team as part of its Evaluation Plan for the Oculina Experimental Closed Area. The team will review and provide recommendations for the ongoing research and monitoring, outreach, and law enforcement components of the Evaluation Plan that will assist the Council to complete the 3-year size and configuration evaluation. Members of the Oculina Evaluation Team include scientists, commercial and recreational fishermen, outreach specialists, and law enforcement personnel.

Note: The times and sequence specified in this agenda are subject to change.

Special Accommodations

These meetings are physically accessible to people with disabilities. Requests for auxiliary aids should be directed to the Council office (see ADDRESSES) 3 days prior to the meetings.

Dated: July 19, 2006.
Tracey L. Thompson,
Acting Director, Office of Sustainable Fisheries, National Marine Fisheries Service.

[FR Doc. E6-11687 Filed 7-21-06; 8:45 am]

BILLING CODE 3510-22-S